DEPARTMENT OF HEALTH AND HUMAN SERVICES

Centers for Disease Control and Prevention

[30Day-15-15IG]

Agency Forms Undergoing Paperwork Reduction Act Review; Withdrawal

AGENCY: Centers for Disease Control and Prevention (CDC), Department of Health and Human Services (HHS).

ACTION: Notice withdrawal.

SUMMARY: Due to an information collection request oversight, the Centers for Disease Control and Prevention (CDC) requests immediate publication withdrawal of the 30-Day Federal Register Notice (FRN) entitled “Agency Forms Undergoing Paperwork Reduction Act Review” concerning the Public Health Associate Program (PHAP) Alumni Assessment.

DATES: The 30-day FRN published on March 25, 2015 at 80 FR 15791 is withdrawn as of April 9, 2015.

FOR FURTHER INFORMATION CONTACT: For further information call (404) 639-7570 or mail comments to CDC, Leroy A. Richardson, 1600 Clifton Road, MS D-74, Atlanta, GA 30333 or send an email to omb@cdc.gov.

Leroy A. Richardson,
Chief, Information Collection Review Office, Office of Scientific Integrity, Office of the Associate Director for Science, Office of the Director, Centers for Disease Control and Prevention.

[FR Doc. 2015-08139 Filed 4-8-15; 8:45 am]

BILLING CODE 4163-18-P